DEPARTMENT OF HEALTH AND HUMAN SERVICES

Health Resources and Services Administration

Notice of A Cooperative Agreement To Support Innovative Projects Relating to Public Health Education and Services

The Health Resources and Services Administration announces that applications will be accepted for a Cooperative Agreement for fiscal year (FY) 2001 to plan, develop, and implement a series of collaborative projects relating to public health education and special projects. This Cooperative Agreement is expected to support a program of innovative training and education projects to demonstrate the sharing of expertise between public health faculty and public health practitioners in State and local communities. The goal of the Cooperative Agreement is to improve public health, public health services, and health care services at the State and local community levels while providing meaningful feedback to schools of public health concerning the efficacy of their curricula in educating and training the future and existing public health workforce.

There are three purposes for this Cooperative Agreement: (1) To develop training, placement, recruitment and retention mechanisms to address the shortfall of individuals in various public health disciplines and professions as defined by the Bureau of Labor Statistics Standard Occupational Classification; (2) to strengthen and institutionalize practice oriented linkages between the schools of public health and the public health practice community so that individuals are better trained to meet the needs of HRSA-sponsored grantees in community settings; and (3) to provide assistance in curricula development and related initiatives that will address the need for better educated and culturally competent entry-level and mid-level public health practitioners in public health practice settings.

Activities under this Cooperative Agreement must include:

(1) The convening of communities of interest, including rural organizations, to produce policy recommendations to HRSA to improve education, training, recruitment, and diversification of the public health workforce, especially as it impacts the needs of underserved communities.

(2) The development of an internship and fellowship program for students and graduates of schools of public health to provide exposure and work experience in front line urban and rural public health agencies, organizations, and systems, and policy/program development.

(3) The analysis of training, delivery methods and new technologies for adult learners.

(4) The establishment of a geographically diverse Steering Committee for the development and pilot testing of activities to provide technical assistance to public health practice sites.

(5) The establishment of linkages between academic training institutions and public health practice organizations to demonstrate innovative models and initiatives supportive of academic practice.

(6) The improvement of public health research in urban and rural community populations and linkages with these stakeholders and other national associations to highlight both public health education and the efficient delivery of health services, especially as it impacts the needs of underserved communities and minority and disadvantaged practitioners.

(7) The coordination of the development of curricula that support health care delivery and health service projects funded by HRSA.

(8) The evaluation of outcome measures and performance standards used by HRSA's public health programs for the delivery of various health services, patient health status, consumer satisfaction, systems of care and quality.

Authorizing Legislation

This Cooperative Agreement is solicited under the authority of title VII, section 765 of the Public Health Service (PHS) Act, as amended. Section 765 authorizes the award of grants to increase the number of individuals in the public health workforce, to enhance the quality of such workforce, and to enhance the ability of the workforce to meet national, State, and local health care needs.

The Federal role in the conduct of this Cooperative Agreement is substantial and will be maintained by the Bureau of Health Professions (BHPr) staff through technical assistance and guidance to the awardee considerably beyond the normal stewardship responsibilities in the administration of grant awards. Such activities under this Cooperative Agreement include the:

(a) Planning, development, and implementation of all phases of the program, including consultation regarding contracts, agreements, and sub-awards developed, as well as participation in the review and selection of contracts, agreements and sub-awards;

(b) Participation in the development of all curricula for the program, and approval of the content and delivery of training experiences;

(c) Participation in the development of an evaluation plan for the project initiated at the inception of the project;

(d) Assistance with identification of Federal and other organizations with whom collaboration is essential in order to further the Cooperative Agreement's mission and to develop specific strategies to support the work of these related activities;

(e) Participation in the development of funding projections;

(f) Participation in the development of data collection systems and procedures;

(g) Participation in all appropriate meetings, committees, subcommittees, and working groups related to this Cooperative Agreement and its projects, as well as site visits;

(h) Participation in the review of curricula vitae documenting credentials and experience for the Steering Committee, key faculty, and key staff before commitments are made by the awardee;

(i) Participation in the identification of emerging health management practice issues for technical assistance purposes;

(j) Identification of HRSA programmatic issues for special attention through the Cooperative Agreement;

(k) Identification of appropriate consultation for proposed projects, and/or annual plans for any succeeding project years;

(l) Assistance in defining the objective, method, evaluation and use of project results and translation into the knowledge, skills, and attributes for educational objectives,

(m) Assistance in ensuring appropriate linkages with public health practice, health services, and health care delivery sites; and

(n) Participation in monitoring the implementation, conduct and results of projects implemented under this Cooperative Agreement.

The BHPr's Center for Public Health will provide technical assistance for this Cooperative Agreement.

Availability of Funds

Up to $700,000 will be available in FY 2001 to fund this Cooperative Agreement. Funding will be for a 5-year project period. It is expected the award will be made on or before September 30, 2001. Continuation awards beyond the first year of the project period will be based on the achievement of satisfactory progress and the availability of funds.

Background

As part of its overall mission, HRSA is responsible for providing national leadership to assure that high quality health care and public health services are provided to the most vulnerable populations in the Nation. HRSA is also responsible for improving the basic and continuing education of public health professionals to assess, develop and assure that a high level of services is available to these vulnerable populations. In carrying out this responsibility, HRSA works collaboratively with educational institutions, especially schools of public health and with professional organizations to develop and implement improved basic and continuing education curricula to assure competent public health practice and leadership in the United States.

It has been recognized that the quality, number and diversity of public health personnel plays a critical role in the promotion of health, prevention and control of disease, and the management of health resources. The principal purpose of schools of public health is to promote and improve the education and training of professional public health personnel.

An area of major concern to HRSA is the lack of individuals trained and prepared to manage and/or provide services in community settings. It is these settings where a majority of HRSA funding and attention is directed, because it is at the community-level that our most vulnerable populations need care. The disconnect between public health training and community settings where these individuals are needed continues to be a significant problem in public health and for the efficient delivery of HRSA-sponsored care and services.

A second major concern of HRSA is over the low number of faculty, students and practitioners from minority backgrounds in academic and practice settings. The schools of public health can play a crucial role in alleviating these shortcomings, especially in training minority and disadvantaged public health workers. HRSA is proposing to develop a range of activities utilizing the strengths of the schools of public health to address the identified as well as emerging concerns. This Cooperative Agreement will serve as an incentive to the academic public health community to become more involved in public health practice issues, increase the number of minority professionals working in public health settings, and introduce cultural diversity training into the curriculum in schools of public health.

By the end of the demonstration period, the awardee must have developed written curricula for its program, comprehensively described its implementation plan and local experience in educating students, training faculty and public health professionals, and reported on the effectiveness of its program in changing its stakeholder's knowledge, skills, attitudes, and practices. National and local dissemination of information and lessons learned by the recipient is required throughout the project period. This Cooperative Agreement is expected to contribute significantly to the identification of future best practices for the education and training of public health professionals.

Eligible Applicants

Eligible applicants are a health professions school (including an accredited school or program of public health, health administration, preventive medicine, or dental public health or a school providing health management programs), academic health centers, State or local governments, and any other appropriate public or private non-profit entity.

Review Criteria

The specific review criteria used to review and rank applications are included in the application guidance that will be provided to each potential applicant. Applicants should pay strict attention to addressing these criteria, as they are the basis upon which applications will be judged by the reviewers.

The following generic review criteria are applicable to this Cooperative Agreement:

(a) That the estimated cost to the Government of the project is reasonable considering the level and complexity of activity and the anticipated results.

(b) That the budget justifications are complete, appropriate, and cost-effective.

(c) That project personnel are well qualified by training and/or experience for the support sought, and the applicant organization or the organization to provide training has adequate facilities and manpower.

(d) That the proposed objectives are capable of achieving the specific program objectives defined in the program announcement and the proposed results are measurable.

(e) That insofar as practical, the proposed activities, if well executed, are capable of attaining project objectives.

(f) That the proposal includes an integrated methodology compatible with the scope of project objectives, including collaborative relationships with relevant institutions and professional associations.

(g) That the method for evaluating proposed results includes criteria for determining the extent to which the program has achieved its stated objectives and the extent to which the accomplishment of objectives can be attributed to the program.

(h) That, insofar as practical, the proposed activities, when accomplished, are replicable, national in scope, and include plans for broad dissemination.

Letters of Intent and Deadline Date

Applicants are encouraged to submit a letter of intent to apply for this Cooperative Agreement. The letter is requested to assist staff in planning for the review based on anticipated number of applications. The letter of intent is due July 10, 2001. Simultaneously mail or e-mail one copy of the letter to each of the following representatives from the Center for Public Health (CPH), within the Bureau of Health Professions (BHPr):

Jeffrey Dunlap, Acting Director, CPH, Bureau of Health Professions, HRSA, Room 8-103, Parklawn Building, 5600 Fishers Lane, Rockville, MD 20857; or e-mail address at Jdunlap@hrsa.gov. Mr. Dunlap's telephone number is (301) 443-6853.

Capt. Barry Stern, Sr., Environmental Health Advisor, CPH, Bureau of Health Professions, HRSA, Room 8-103, Parklawn Building, 5600 Fishers Lane, Rockville, MD 20857; or e-mail address at Bstern@hrsa.gov. Capt. Stern's telephone number is (301) 443-6758.

Application Requests, Dates and Address

Federal Register notices and the application form and guidance for this Cooperative Agreement are available from the HRSA web site address at http://bhpr.hrsa.gov/grants2001/. Applicants may also request a hard copy of these materials from the HRSA Grants Application Center (GAC) at 1815 North Fort Myer Drive, Suite 300, Arlington, VA 22209; telephone number 1-877-477-2123. The GAC e-mail address is: hrsagac@hrsa.gov.

In order to be considered for competition, applications for this Cooperative Agreement must be received by mail or delivered to the GAC no later than July 26, 2001.

Completed applications must be submitted to the GAC at the above address. Applications received after the deadline date or sent to any address other than the Arlington, Virginia address above will be returned to the applicant and not reviewed.

National Health Objectives for the Year 2010

The PHS urges applicants to submit their work plans that address specific objectives of Healthy People 2010, which potential applicants may obtain through the Superintendent of Documents, Government Printing Office, Washington, D.C. 20402-9325 (telephone: (202) 783-3238). Particular attention should focus on Healthy People 2010 Workforce Objectives, such as Objectives 1-8 (achieving minority representation in the health professions) and 23-8 (incorporating specific competencies into the public health workforce).

Smoke-Free Workplace

The PHS strongly encourages all grant recipients to provide a smoke-free workplace; to promote the non-use of all tobacco products; and to promote Pub. L. 103-227, the Pro-Children Act of 1994, which prohibits smoking in certain facilities that receive Federal funds in which education, library, day care, health care, and early childhood development services are provided to children.

Additional Informaiton

Questions concerning programmatic aspects of this Cooperative Agreement may be directed to the same representatives of the Center for Public Health listed above in the Letters of Intent section of this notice.

Paperwork Reduction Act

The standard application form HRSA-6025-1, the HRSA Competing Training Grant Application, has been approved by the Office of Management and Budget (OMB) under the Paperwork Reduction Act. The OMB clearance number is 0915-0060. If the methods for developing the proposed comprehensive outcome evaluation of all efforts delivered through this Cooperative Agreement (as described in the Background section of this notice) fall under the purview of the Paperwork Reduction Act, the awardee will assist HRSA in seeking OMB clearance for proposed data collection activities.

This program is not subject to the provisions of Executive Order 12372, Intergovernmental Review of Federal Programs (as implemented through 45 CFR part 100). This program is also not subject to the Public Health Systems Reporting Requirements.

Dated: June 20, 2001.
Elizabeth M. Duke,
Acting Administrator.

[FR Doc. 01-15964 Filed 6-25-01; 8:45 am]

BILLING CODE 4160-15-P